DEPARTMENT OF THE INTERIOR

National Park Service

[NPS-WASO-NRNHL-DTS#-29183; PPWOCRADI0, PCU00RP14.R50000]

National Register of Historic Places; Notification of Pending Nominations and Related Actions

AGENCY: National Park Service, Interior.

ACTION: Notice.

SUMMARY: The National Park Service is soliciting comments on the significance of properties nominated before October 19, 2019, for listing or related actions in the National Register of Historic Places.

DATES: Comments should be submitted by November 27, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before October 19, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Tuscaloosa County

Stillman College, 3601 Stillman Blvd., Tuscaloosa, SG100004680

IDAHO

Elmore County

Featherville School, 4348 N Pine-Featherville Rd., Featherville, SG100004709

MASSACHUSETTS

Worcester County

Olney Cook Artisan Shop, 54 Hartford Ave. E, Mendon, SG100004699

Dale and Ethan Allen Streets Historic District, 18, 31-33, 21-23 & 11-15 Dale St., 1 Allendale St., 22, 26, 25-27, 15 & 17 Ethan Allen St., Worcester, SG100004700

Dudley Hill Historic District, Center, Dudley Oxford, Dudley Southbridge, Ramshorn & Tanyard Rds., Dudley, SG100004707

MONTANA

Beaverhead County

Andrus Hotel, 45 E Glendale St., Dillon, SG100004711

Dillon City Hall Historic District, 125 N Idaho St., Dillon, SG100004712

Ravalli County

McCrossin, James, Cabin, 1237 MT 93 S, Hamilton vicinity, SG100004710

Stillwater County

Dean School, 1367 Nye Rd., Dean, SG100004713

OHIO

Erie County

Castalia Trout Club, 604 Washington St., Castalia, SG100004704

Hancock County

Findlay Country Club Golf Course, 1500 Country Club Dr., Findlay, SG100004705

Summit County

University Club, 105 Fir Hill, Akron, SG100004706

PENNSYLVANIA

Delaware County

Third Presbyterian Church, 420 E 9th St., Chester, SG100004702

Philadelphia County

Sykes Brothers Yarn Mill, (Textile Industry in the Kensington Neighborhood of Philadelphia, Pennsylvania MPS), 178-180 W Huntingdon St., Philadelphia, MP100004701

Wharton Street Memorial Methodist Episcopal Church and Sunday School, 5337 Catharine St., Philadelphia, SG100004703

TENNESSEE

Bradley County

Hardwick Farms, 4710 N Lee Hwy., Cleveland, SG100004696

Davidson County

Cayce, James A., Administration Service Building, (Public Housing in Nashville, 1938-1965 MPS), 701 S 6th St., Nashville, MP100004689

Hamilton County

McCoy Farm, 1715 Anderson Pike, Signal Mountain, SG100004697

Knox County

Lawhon, Charles L., Cottage, 1910 Prospect Place, Knoxville, SG100004685

Lauderdale County

Ripley Fire Lookout Tower, (Tennessee Division of Forestry Fire Lookout Towers MPS), Joe Crihfield Rd., Ripley, MP100004684

Lawrence County

Bank of Loretto, 200 Broad St., Loretto, SG100004682

Marion County

Ebenezer Cumberland Presbyterian Church, 3040 Griffith Hwy., Jasper, SG100004698

Marshall County

Presbyterian Church, U.S.A., 300 Water St., Lewisburg, SG100004693

Robertson County

Frierson Chapel, (Historic Rural African-American Churches in Tennessee MPS), Approx. 0.20 mi. off Old Coopertown Rd., Coopertown, MP100004694

Shelby County

Wooten Fallout Shelter, Lions Gate Dr., Memphis, SG100004683

Barksdale Mounted Police Station, 189 S Barksdale St., Memphis, SG100004695

Washington County

Jonesborough Historic District Boundary Increase, Roughly along E Main St. from Franklin Ave. & 624 E Main St.; Roughly along, S Cherokee St. from Depot St. to 504 S Cherokee St.; also Locust St., Jonesborough, BC100004686

WYOMING

Teton County

Game Creek, Address Restricted, Jackson vicinity, SG100004708

An owner objection was received for the following resource:

TENNESSEE

Washington County

Hillrise Park Historic District, Roughly bounded by Baxter St., Forest Ave., Ridgeway Rd., Woodland Ave., E Oakland Ave., E 9th Ave., Lester Harris Ave. & E Holston Ave., Johnson City, SG100004692

A request for removal has been made for the following resources:

TENNESSEE

Grundy County

Patton, John E., House, (Grundy County MRA), Roddy Creek Rd., Coalmont vicinity, OT87000540

Obion County

Dickey's Octagonal Barbershop, SW corner High & N Church Sts., Rives, OT75001772

Additional documentation has been received for the following resource:

TENNESSEE

Washington County

Jonesborough Historic District, Roughly bounded by Depot & College Sts., 3rd Ave. & jct. of Main St. and Franklin Ave., Jonesborough, AD69000183

Authority: Section 60.13 of 36 CFR part 60.

Dated: October 22, 2019.
Julie H. Ernstein,
Supervisory Archeologist, National Register of Historic Places/National Historic Landmarks Program.

[FR Doc. 2019-24541 Filed 11-8-19; 8:45 am]

BILLING CODE 4312-52-P